DEPARTMENT OF DEFENSE

Office of the Secretary

Office of Economic Adjustment; Notice of Cooperative Agreement

Federal Funding Opportunity Title: Research and Technical Assistance.

Announcement Type: Cooperative Agreement.

Catalog of Federal Domestic Assistance (CFDA) Number: 12.615.

Key Dates: The proposal submission deadline is thirty (30) days after the publication of this notice.

Executive Summary: This notice announces the opportunity to enter into a cooperative agreement with the Office of Economic Adjustment (OEA) for Research and Technical Assistance (RTA) and invites proposals to continue to provide economic data to Defense-impacted communities. The OEA is authorized by 10 U.S.C. 2391 to make grants to, or conclude cooperative agreements or enter into contracts with, a State or local government or any private entity to conduct research and provide technical assistance in support of the Defense Economic Adjustment Program, and to assist communities, businesses and workers responding to Defense changes under 10 U.S.C. 2391 and Executive Order 12788, as amended. OEA is the Department of Defense's primary source for assisting communities that are adversely impacted by Defense program changes, including base closures or realignments and contract or program reductions or cancellations. Awards provided under this announcement support the Defense Economic Adjustment Program by providing: (1) Analysis and dissemination of information; and (2) support to innovative approaches.

I. Funding Opportunity Description

OEA, a Department of Defense (DoD) Field Activity, is authorized to make grants to, or conclude cooperative agreements or enter into contracts with, state or local governments or any private entity, to conduct research and provide technical assistance in support of its program activities under 10 U.S.C. 2391 and Executive Order 12788, as amended.

On December 31, 2008, OEA published a Federal Funding Opportunity in the Federal Register (73 FR 80369-80371), and through a competitive process selected the University of Illinois—Chicago (University) to provide economic data for 56 Defense-impacted communities. The University conducted a multi-phase approach to provide data and analysis for these communities. Phase I entailed identification, collection, and preliminary analysis of baseline indicators that collectively formed the backbone of the project. Phase II entailed reaching out to communities and refining the baseline data indicators based on community needs. The University also produced a broad array of reports and analytical products; developed tools for the systematic analysis of communities' development trends and challenges; and provided detailed customized data and reports to communities. The University designed, manages, and hosts on their server the Web site www.defensecommunitydata.com, to share the baseline data tracked through the current cooperative agreement with the target communities, as well as Federal, state, and local agencies.

1. Description of opportunity—Pursuant to the Research and Technical Assistance program, OEA is soliciting proposals that will result in a cooperative agreement to provide economic indicators on a recurring basis to approximately 80 Defense-impacted locations engaged in defense economic adjustment. OEA works with communities/regions experiencing base closure, realignment, and reductions in or cancellations of DoD spending. Implementation of a community's plan to redevelop surplus property (base closure) or address reductions in defense procurement may be impacted by changing economic conditions, including, but not limited to, declining home values, rising unemployment, declining tax revenue, and housing/business starts. Specifically, OEA is seeking proposals to continue to provide information to its program customer base on: (1) Adjusted monthly and quarterly economic data for approximately 80 communities with Defense impacts; and (2) a national baseline for identified economic indicators. This information was and will continue to be developed with and for the affected communities, and posted on the Internet to further assist OEA's community, state, and other customers in the coordination and delivery of adjustment assistance. OEA desires that the successful respondent host on their server and post on the Internet: (1) A seamless continuation of regional data for the following listed installations starting October 1, 2013; and (2) similar regional data for additional Defense-impacted communities (to be determined by OEA) to be posted on the Internet within 30 days of OEA notification to the successful recipient. Data developed under the current cooperative agreement will be made available to the selected recipient and can be viewed at www.defensecommunitydata.com. OEA reserves the right to continue this effort with the selected recipient for up to 3 additional years without further competition, subject to the availability of funds and successful performance.

2. Additional Information—The respondent must continue to track the existing data from the current cooperative agreement. These specific data elements can be obtained from the Data section of any community page on www.defensecommunitydata.com or from the agency contact noted in Section VII. The research and data must be dynamic, in that it must be updated on a recurring basis to reflect current local economic situations across a portfolio of regions. The respondent will be expected to engage the identified communities and provide specific information developed by the project directly to the respective communities. OEA encourages the respondent to consider partnering with public, private, and higher education sources for existing economic data or techniques for adjusting economic data to reflect local conditions.

3. List of BRAC 2005 military installations with a continuing need for regional economic data. OEA reserves the right to add to or change this list and to identify approximately 50 additional Defense-impacted communities for future data collection.

Base name | State
Army Reserve Personnel Command St. Louis | MO
Brooks City Base | TX
Buckley Air Force Base Annex | CO
Deseret Chemical Depot | UT
Fort Gillem | GA
Fort McPherson | GA
Fort Monmouth | NJ
Fort Monroe | VA
General Mitchell Air Reserve Station | WI
Grand Forks Air Force Base | ND
Kansas Army Ammunition Plant | KS
Naval Air Station Brunswick | ME
Naval Air Station Corpus Christi/Naval Station Ingleside | TX
Naval Air Station Willow Grove | PA
Naval Station Pascagoula | MS
Naval Supply Corps School Athens | GA
Naval Support Activity New Orleans | LA
Naval Weapons Station Seal Beach Concord Detachment | CA
Newport Chemical Depot | IN
Onizuka Air Force Station | CA
Red River Army Depot/Lone Star Army Ammunition Plant | TX
Riverbank Army Ammunition Plant | CA
Rock Island Arsenal | IL
Selfridge Army Activity | MI
Sheppard Air Force Base | TX
Umatilla Army Depot | OR
Walter Reed Army Medical Center | DC

II. Award Information

OEA is accepting proposals for a Research and Technical Assistance award. The proposals should pertain to the identified areas of interest and will be rated on content (relevance and appropriateness to OEA's core functions, qualifications of project personnel, responsiveness to this announcement, and budget). OEA will invite the successful respondent(s) to enter into a cooperative agreement under this announcement following a review of the proposals and determination of eligible respondents, which will commence after the 31st day following publication of this announcement.

III. Eligibility Information

Eligible respondents include any State or local government or private entity.

Eligible activities include research and technical assistance in support of Defense Economic Adjustment Program activities under 10 U.S.C. 2391 and Executive Order 12788, as amended, to assist communities, businesses, and workers adversely affected by Defense changes. OEA specifically seeks proposals to:

• Maintain/develop and present local economic indicator data for regions impacted by Defense downsizing to include regions impacted by reductions in or cancellations of DoD spending, based on the two elements identified in section I, subsection 1 of this announcement. Respondents must present how their proposal will cost effectively support the information available at www.defensecommunitydata.com and be an on-call resource for government data needs.

Proposals outside the identified areas of interest will not be considered.

IV. Application and Submission Information

The process requires the respondents to submit proposals within the advertised solicitation period (thirty (30) days).

The proposals must include a cover or transmittal letter and accompanying text that shall consist of no more than 10 pages (single-sided), comprising:

• An abstract of the proposed research or technical assistance;

• A description of the scope of work required to provide economic indicators on a recurring basis to include:

○ Specific economic indicators continued from the current cooperative agreement to reflect near real-time economic conditions;

○ methods for obtaining or developing the indicators;

○ the respondent's plan for engaging the impacted communities for each of the listed installations, and approximately 50 additional communities as may be designated by OEA from time to time, during development of the information and for evaluating the usefulness of information provided; and,

○ methods for distributing the information to the impacted communities.

• A proposed budget and accompanying budget justification;

• Detailed description of the project team and their relevant experience;

• A project schedule for completion of the work that meets OEA's desired timelines for provision of the data;

• A point of contact.

Proposals must be provided to: Director, Office of Economic Adjustment, electronically to: rta.submit@osd.mil; or by mail to: 2231 Crystal Drive Suite 520, Arlington, VA, 22202.

V. Application Review Information

1. Selection Criteria—In reviewing proposals under this notice, OEA considers and weights equally each of the following factors as a basis for evaluating an application:

• Overall conformance with proposal requirements and desired timelines for provision of the data;

• Overall quality of proposed research;

• Overall expertise, experience, qualifications and ability of investigators; and

• Overall cost.

2. Review and Selection Process—OEA will assign a Project Manager and notify the respondent(s) as soon as practicable following its review of the proposals and determination of eligibility, to advise and assist with the preparation of an application. The application will be reviewed for its completeness and accuracy, and, to the extent possible, an award notification will be issued within fourteen (14) days of the receipt of a complete application.

VI. Award Administration Information

1. Award Notices—To the extent possible, successful applicants will be notified within fourteen (14) days of the receipt at OEA of a complete application whether or not they will receive an award. Upon notification of an award, applicants will receive an award agreement, signed by the Director of OEA on behalf of DoD. Awardees must review the award agreement and indicate their consent to its terms by signing and returning it to OEA.

2. Administrative and National Policy Requirements—

The Awardee and any consultant/contractor operating under the terms of a grantor cooperative agreement shall comply with all Federal, State, and local laws applicable to its activities including the following: 32 CFR part 33, “Uniform Administrative Requirements for Grants and Cooperative Agreements to State and Local Governments”; 2 CFR part 225, “Cost Principles for State, Local, and Indian Tribal Governments (OMB Circular A-87)”; OMB Circular A-133, “Audits of States, Local Governments, and Non-Profit Organizations,” and 31 U.S.C. 7502(h) “Requirements for Single Audits”; 2 CFR part 180, “OMB Guidelines to Agencies on Government-wide Debarment and Suspension (Nonprocurement)”; and 2 CFR part 1125, “Nonprocurement Debarment and Suspension,”; 32 CFR part 26, subpart B, “Requirements for Recipients Other Than Individuals”; 32 CFR part 26, “Government wide Requirements for Drug-Free Workplace (Financial Assistance)”; 32 CFR part 32, “Administrative Requirements for Grants and Agreements with Institutions of Higher Education, Hospitals, and Other Non-Profit Organizations”; 32 CFR part 34, “Administrative Requirements for Grants and Agreements with For-Profit Organizations”; OMB Circular A-21, “Cost Principles for Educational Institutions”; OMB Circular A-122, “Cost Principles for Non-Profit Organizations”; 32 CFR part 28, “New Restrictions on Lobbying”; 2 CFR part 25, “Universal Identifier and Central Contractor Registration” (now found in the System for Award Management (SAM) at www.sam.gov).

3. Reporting—OEA requires interim performance reports and one final performance report for each award. The performance reports will contain information on the following:

• A comparison of actual accomplishments to the objectives established for the reporting period;

• Reasons for slippage if established objectives were not met;

• Additional pertinent information when appropriate;

• A comparison of actual and projected expenditures for the period; and

• The amount of awarded funds on hand at the beginning and end of the reporting period.

The final performance report must contain a summary of activities for the entire award period. All remaining required deliverables should be submitted with the final performance report. The final SF 269A, “Financial Status Report,” must be submitted to OEA within ninety (90) days after the end date of the award. Any funds actually advanced and not needed for award purposes shall be returned immediately to OEA.

OEA will provide a schedule for reporting periods and report due dates in the Award Agreement.

VII. Agency Contacts

For further information, to answer questions, or for help with problems, contact:

Nia Hope, Office of Economic Adjustment, 2231 Crystal Drive Suite 520, Arlington, VA 22202. O: (571) 213-6791.

Email: nia.hope@wso.whs.mil.

VIII. Other Information

The Office of Economic Adjustment Internet address is http://www.oea.gov.

Dated: July 9, 2013.
Aaron Siegel,
Alternate OSD Federal Register Liaison Officer, Department of Defense.

[FR Doc. 2013-16880 Filed 7-12-13; 8:45 am]

BILLING CODE 5001-06-P